Proclamation 10475 of October 11, 2022

International Day of the Girl, 2022

By the President of the United States of America

A Proclamation

Ten years ago, on the first International Day of the Girl, the United States joined nations around the world to recognize the challenges that girls face and commit to expanding opportunity and equality for them in every part of the globe. Today, on this 10th anniversary, we know that when girls are empowered to dream big and reach their full potential, the possibilities for our world are limitless. From combating the climate crisis and standing up for human rights to fighting for equitable access to education, health care, and opportunity, girls are strengthening democracies, powering economies, and enriching communities everywhere.

Despite their dynamic potential, we must also recognize on this day that girls continue to face significant challenges in the United States and around the world. Hunger, homelessness, and lack of access to adequate health care and educational opportunities threaten their health and wellbeing and create barriers to their full and equal participation in society.

Both at home and abroad, gender-based violence compromises their safety—from child sexual abuse and exploitation to female genital cutting and child marriage. The direct and indirect impacts of gender-based violence and the effect they have on girls' potential and opportunity reinforce our commitment to building a world where all people can live free from violence or intimidation.

That is why my Administration has prioritized unlocking doors of opportunity and delivering the full measure of equity and dignity due to all girls. At home, we are championing equitable access to education, equal pay, and access to jobs and job training so that when girls grow up, they can choose their own path and lead the workforce of the future. We are taking action to expand girls' access to health care, which is critical to supporting their success. I am committed to addressing gender-based violence wherever it occurs—online, in school, at work, or at home—which is why I am proud to have reauthorized and strengthened the Violence Against Women Act. And by supporting LGBTQI+ rights across this Nation, I affirm that everyone deserves respect, protection, and belonging.

My Administration's commitment to empowering girls extends beyond our borders. The United States is supporting equitable access to health care by providing lifesaving HIV treatment to over 19 million people worldwide. We reached over two million adolescent girls and young women just last year. We have committed to improving access to education and learning for 15 million girls and young women by 2025. And we are committed to ending the scourge of gender-based violence globally—particularly in conflict zones, in humanitarian and refugee contexts, and in the aftermath of natural disasters where women and girls face distinct vulnerabilities.

My Administration is also investing in education and programs to advance economic security for women and girls globally, including by pledging $50 million to the World Bank's Global Childcare Incentive Fund and calling on the Congress to provide $200 million for the Gender Equity and Equality Action Fund to support women's economic participation. I will continue to speak out for women and girls around the globe, including in Iran, where brave young women are demonstrating to secure their basic rights, and I have called on the Congress to double funding for programs that promote gender equality worldwide.

When girls break barriers, they blaze trails for the generations that follow. Investing in their health, safety, education, and economic security moves us closer to building more just, equitable societies and flourishing democracies. It helps us develop leaders across sectors and enables us to create a strong workforce that is ready to meet the challenges and opportunities ahead. Together, we can prepare the next dreamers and doers to shape a new and better future for us all.

NOW, THEREFORE, I, JOSEPH R. BIDEN JR., President of the United States of America, by virtue of the authority vested in me by the Constitution and the laws of the United States, do hereby proclaim October 11, 2022, as International Day of the Girl. I call upon the people of the United States to observe this day with programs, ceremonies, and activities that advance equality and opportunity for girls everywhere.

IN WITNESS WHEREOF, I have hereunto set my hand this eleventh day of October, in the year of our Lord two thousand twenty-two, and of the Independence of the United States of America the two hundred and forty-seventh.

[FR Doc. 2022-22534

Filed 10-13-22; 8:45 am]

Billing code 3395-F3-P